DEPARTMENT OF AGRICULTURE

Forest Service

Red Star Restoration; Tahoe National Forest, Placer County, CA

AGENCY: Forest Service, USDA.

ACTION: Notice of intent to prepare an environmental impact statement.

SUMMARY: The Star Fire burned 16,600 acres in August and September 2001, on the Tahoe and Eldorado National Forests. Of the total fire, approximately 9,478 acres of National Forest System (NFS) land burned on the Foresthill Ranger District of the Tahoe National Forest. The USDA, Forest Service, Tahoe National Forest will prepare an environmental impact statement (EIS) on a proposal to reduce the fuel loading by removing fire-killed trees on approximately 7,700 acres on the Foresthill Ranger District as a result of the Star Fire. The Eldorado National Forest is preparing a separate environmental impact statement for NFS land burned on the Eldorado titled Star Fire Restoration (February 2001). Both EISs will address cumulative effects of the projects.

The purpose of the project is to manage predicted surface fuel accumulations resulting from fire-killed trees and vegetation to move the conditions towards natural fire regimes more rapidly, re-establish forest vegetation to restore old forest characteristics and wildlife habitat, restore riparian and upslope areas and improve current conditions, initiate restoration of the scenery and recreation experience, operate and manage the road system necessary to provide access, and capture the value of fire-killed trees in order to obtain revenue for restoration activities. These actions are required to reduce the risk of uncharacteristic wildfire effects and to establish forest vegetation to restore the old forest dependent wildlife habitats.

DATES: Comments concerning the scope and implementation of this proposal should be received by April 8, 2002.

ADDRESSES: Send written comments to Karen Jones, Red Star Restoration Project Leader, Tahoe National Forest, 22830 Foresthill Rd, Foresthill, CA 95631 or e-mail to: karenjones@fs.fed.us.

FOR FURTHER INFORMATION CONTACT: Questions and comments about this EIS should be directed to Karen Jones, at the above address, or call her at 530-367-2224.

SUPPLEMENTARY INFORMATION: Approximately 4,363 acres of the 9,478 acres that burned on the Star Fire within the Tahoe National Forest are within the Duncan Canyon Inventoried Roadless Area (IRA). The goal of this project is to maintain the existing un-roaded character within the Duncan Canyon IRA and reduce fire-killed fuel accumulations utilizing helicopter-yarding systems.

The Tahoe National Forest Land and Resource Management Plan (1990) and the Sierra Nevada Framework Plan Amendment (2001) identifies the desired land allocations for this area as Inventoried Roadless Area (4,363 acres), California spotted owl Protected Activity Centers (PACs) (1,120 acres), Northern goshawk PACs (730 acres), Old Forest Emphasis Areas (7,618 acres), Home Range Core Areas (2,145 acres), Defense Zone (316 acres), Threat Zone (1,985 acres), and General Forest (224 acres). Many of the acres overlap due to shared allocations. Each allocation has a set of standards and guidelines that determine how management would proceed within the allocation. The proposed action is designed to be consistent with the 1990 Tahoe National Forest Land and Resource Management Plan as amended by the Sierra Nevada Forest Plan Amendment Record of Decision.

The Interdisciplinary Team has defined fire-killed trees as trees that have dead (black or brown) crowns. This approach was used to ensure that only dead, fire-killed trees would be considered for removal. Approximately 3,700 acres of trees are dead. Stands that meet the stand replacement criteria are areas with greater than 75% mortality based on stand basal area and considered in the proposed action. Based on field inventories conducted in the fall of 2001, stand replacement is predicted to occur during the next 1-3 years on an additional 4,000 acres. These acres would be monitored and no burned trees would be removed until the stand meets the stand replacement criteria and the fire-killed definition (dead-crown criteria) mentioned above.

The proposed action is to:

1. Cut and remove dead materials greater than one-inch diameter at breast height (dbh) that is excess to the desired condition for fuels reduction, wildlife retention, and other resource needs. Remove commercial material and ground-based equipment on approximately 382 acres; with skyline yarding systems on approximately 305 acres; and by helicopter yarding systems on approximately 2,417 acres. Approximately 1,033 acres of those proposed for helicopter yarding lie within the Duncan Canyon IRA. An additional 1,060 acres of mechanical fuel treatment (piling, hand felling and piling, crushing, mastication) of smaller diameter material is proposed.

2. Reforest conifer stand with greater than 75 percent mortality by planting approximately 3,369 acres of conifer seedlings.

3. Provide soil cover by lopping and scattering limbs and tops of fire-killed trees that are removed.

4. Exclude the removal of fire-killed trees from within 50 feet of the apparent high water mark of perennial streams and within 25 feet of seasonally flowing streams. Outside of these limits, but within the Riparian Conservation Area (RCA) boundaries, remove fire-killed trees by helicopter yarding.

5. Cut and remove imminent hazard trees along approximately 11 to 13 miles of the Western States and Tevis Cup Trails.

6. Perform maintenance and repairs on 44 (about 52 miles) of NFS roads. Decommission approximately 11 miles of 22 National Forest System roads after fire restoration work. Three of the roads (for approximately 1.2 miles) are within the Duncan Canyon IRA.

The decision to be made is whether to implement fuel reduction treatments to restore desirable characteristics of the ecosystem composition and structure (Old Forest characteristics) as proposed or to take no action. Alternatives to this proposal would be developed based on significant issues identified during the scoping process for the environmental impact statement. Alternatives being considered at this time include: (1) No Action and (2) the Proposed Action.

Public participation is important during the analysis. The Forest Service will be seeking information, comments, and assistance from the Federal, State, and local agencies and other individuals or organizations that may be interested in or affected by the proposed action. To facilitate public participation, information about the proposed action is being mailed to all who have expressed interest in the proposed action based on publication in the Tahoe National Forest Quarterly Schedule of Proposed Actions and by notifying the public during the scoping period by publishing a notice in the Auburn Journal, Auburn, CA and The Union, Grass Valley, CA.

Comments submitted during the scoping process should be in writing, and should be specific to the proposed action. The comments should describe as clearly and completely as possible any issues the commenter has with the proposal. The scoping process includes:

(a) Identifying potential issues;

(b) Identifying issues to be analyzed in depth;

(c) Eliminating non-significant issues or those previously covered by a relevant previous environmental analysis;

(d) Exploring additional alternatives;

(e) Identifying potential environmental effects of the proposed action and alternatives.

The draft EIS is expected to be filed with the Environmental Protection Agency (EPA) and to be available for public review by April 2002. EPA will publish a notice of availability of the draft EIS in the Federal Register. The comment period on the draft EIS will be 45 days from the date the EPA notice appears in the Federal Register. At that time, copies of the draft EIS will be distributed to interested and affected agencies, organizations, and members of the public for their review and comment. It is very important that those interested in the management of the Tahoe National Forest participate at that time.

The Forest Service believes it is important to give reviewers notice at this early stage of several court rulings related to public participation in the environmental review process. First, reviewers of a draft EIS must structure their participation in the environmental review of the proposal so that it is meaningful and alerts an agency to the reviewer's position and contentions, Vermont Yankee Nuclear Power Corp. v. NRDC, 435 U.S. 519, 553 (1978). Also, environmental objections that could be raised at the draft EIS stage, but that are not raised until after completion of the final EIS may be waived or dismissed by the courts, City of Angoon v. Hodel, 803f, 2d 1016, 1022 (9th Cir, 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final EIS.

To assist the Forest Service in identifying and considering issues and concerns on the proposed action, comments on the proposed action should be as specific as possible. It is also helpful if comments refer to specific pages or chapters of the proposed action. Comments may also address the adequacy of the proposed action or the merits of the alternatives formulated and discussed in the statement. (Reviewers may wish to refer to the Council on Environmental Quality Regulations for implementing the procedural provisions of the National Environmental Policy Act at 40 CFR 1503.3 in addressing these points).

The final EIS would be completed in July 2002. In the final EIS, the Forest Service is required to respond to substantive comments received during the comment period that pertain to the environmental consequences discussed in the draft EIS and applicable laws, regulations, and policies considered in making the decision regarding this proposal.

Steven T. Eubanks, Forest Supervisor, Tahoe National Forest is the responsible official. As the responsible official he will document the decision and reasons for the decision in the Record of Decision. That decision will be subject to Forest Service appeal regulations (36 CFR part 215).

Dated: March 5, 2002.
Steven T. Eubanks,
Forest Supervisor.

[FR Doc. 02-5773 Filed 3-8-02; 8:45 am]

BILLING CODE 3410-11-M